DEPARTMENT OF COMMERCE

Foreign-Trade Zones Board

[B-47-2025]

Foreign-Trade Zone (FTZ) 84; Withdrawal of Notification of Proposed Production Activity; Recodeal Energy Inc; (Galvanized Steel); Houston, Texas

Notice is hereby given of the withdrawal of the notification of proposed production activity submitted by Recodeal Energy Inc for its facilities in Houston, Texas, within FTZ 84. The notification was docketed on September 24, 2025 (90 FR 55847, December 4, 2025). The withdrawal was requested by Recodeal Energy Inc on February 13, 2026.

Dated: February 17, 2026.
Elizabeth Whiteman,
Executive Secretary.

[FR Doc. 2026-03341 Filed 2-19-26; 8:45 am]

BILLING CODE 3510-DS-P